DEPARTMENT OF THE INTERIOR

National Park Service

[NPS-WASO-NAGPRA-NPS0030222; PPWOCRADN0-PCU00RP14.R50000]

Notice of Inventory Completion: Department of Anthropology, Southern Methodist University, Dallas, TX

AGENCY: National Park Service, Interior.

ACTION: Notice.

SUMMARY: The Department of Anthropology, Southern Methodist University (SMU) has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Department of Anthropology, Southern Methodist University. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Department of Anthropology, Southern Methodist University at the address in this notice by June 29, 2020.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains under the control of the Department of Anthropology, Southern Methodist University, Dallas, TX. The human remains were removed from Dallas County, TX.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology, Southern Methodist University professional staff in consultation with representatives of the Apache Tribe of Oklahoma; Comanche Nation, Oklahoma; Coushatta Tribe of Louisiana; Tonkawa Tribe of Indians of Oklahoma; and the Wichita and Affiliated Tribes (Wichita, Keechi, Waco & Towakonie), Oklahoma (hereafter referred to as “The Tribes”).

History and Description of the Remains

At an unknown date, human remains representing, at minimum, one individual were removed from the Hackberry Creek site in Dallas County, TX. The occupational timelines for Dallas County had been investigated multiple times by the Dallas Archaeological Society, The University of Texas, Arlington, and various CRM projects. No context is provided for the human remains, and it is not known if they are associated with the prehistoric artifacts from the site. An appendix by Harrell Gill-King, Ph.D., indicates that, more likely than not, all the bone fragments are from the same period. They are at least 200 years old, but their age is “probably much greater” (Skinner and Ferring 1999).

As a result of previous construction activities in the area, multiple sites were eroded. Surface survey and excavation revealed large numbers of prehistoric artifacts. Skinner and Ferring (1999) concluded that there had been “one or more” occupations in this area over an extended period of time, but that the artifacts associated with these occupations had been redeposited by natural and human activities, and that, therefore, they are not in their original depositional context. Artifact analysis indicates that a Late Archaic occupation definitely was present, but it is unclear if there was also a Late Prehistoric occupation. No artifacts were associated with the burial, because the specific context of the human remains is unknown. The definitive age of the burial is currently unknown. No known individual was identified. No associated funerary objects are present.

At an unknown date, human remains representing, at minimum, one individual were removed from the Hutchins Sand and Gravel Yard in Dallas County, TX. The only provenience information provided for these long bone fragments is “Hutchins Sand and Gravel Yard, about half a mile from the Trinity River.” This yard, in Dallas County, TX, is unrelated to any SMU excavation project. Dr. Meltzer determined that the bones postdated the Pleistocene period stratum below them, but that their context may have been disturbed. Since this is the only extant contextual information, it is not possible to assign these human remains to a time period or culture, or even associate them with any artifacts. No known individual was identified. No associated funerary objects are present.

At an unknown date, human remains representing, at minimum, one individual were removed from Rowlett Creek in Dallas County, TX. The only provenience information provided for these bone fragments is “Rowlett Creek, 1980”. Presumably, the reference is to the Rowlett Creek that runs through Dallas County. The only known project related to Rowlett Creek was completed by AR Consultants and reported by Alan Skinner in 1990. No human remains, however, were identified during that project and, ultimately, the excavators determined that the only sign of occupation was a historic house in the Rowlett Creek Park area. Although the artifacts were connected to a collection of lithics, those lithics are just flakes and fire-cracked rock that are not indicative of a time period or culture. Moreover, the Skinner report indicates that the area was heavily eroded, and that no visible secure contexts were visible. Since this is the only extent contextual information, it is not possible to assign an associated time period or culture to these human remains. No known individual was identified. No associated funerary objects are present.

Determinations Made by the Department of Anthropology, Southern Methodist University

Officials of the Department of Anthropology, Southern Methodist University have determined that:

• Pursuant to 25 U.S.C. 3001(9), the human remains described in this notice are Native American based on geographical location.

• Pursuant to 25 U.S.C. 3001(9), the human remains described in this notice represent the physical remains of three individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to B. Sunday Eiselt, Department of Anthropology, Southern Methodist University, 3225 Daniel Avenue, Heroy Hall #450, Dallas, TX 75205, telephone (214) 768-2915, email seiselt@smu.edu, by June 29, 2020. After that date, if no additional requestors have come forward, transfer of control of the human remains to The Tribes may proceed.

The Department of Anthropology, Southern Methodist University is responsible for notifying The Tribes that this notice has been published.

Dated: April 21, 2020.
Melanie O'Brien,
Manager, National NAGPRA Program.

[FR Doc. 2020-11565 Filed 5-28-20; 8:45 am]

BILLING CODE 4312-52-P